DEPARTMENT OF THE INTERIOR

National Park Service

[NPS-WASO-NAGPRA-NPS0032608; PPWOCRADN0-PCU00RP14.R50000]

Notice of Intent To Repatriate Cultural Items: Peabody Museum of Archaeology and Ethnology, Harvard University, Cambridge, MA

AGENCY: National Park Service, Interior.

ACTION: Notice.

SUMMARY: The Peabody Museum of Archaeology and Ethnology, Harvard University, in consultation with the appropriate Indian Tribes or Native Hawaiian organizations, has determined that the cultural items listed in this notice meet the definition of both sacred objects and objects of cultural patrimony. Lineal descendants or representatives of any Indian Tribe or Native Hawaiian organization not identified in this notice that wish to claim these cultural items should submit a written request to the Peabody Museum of Archaeology and Ethnology. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Peabody Museum of Archaeology and Ethnology at the address in this notice by October 20, 2021.

FOR FURTHER INFORMATION CONTACT: Patricia Capone, Curator and NAGPRA Director, Peabody Museum of Archaeology and Ethnology, Harvard University, 11 Divinity Avenue, Cambridge, MA 02138, telephone (617) 496-3702, email pcapone@fas.harvard.edu.

SUPPLEMENTARY INFORMATION: Notice is here given in accordance with the Native American Graves Protection and Repatriation Act (NAGPRA), 25 U.S.C. 3005, of the intent to repatriate cultural items under the control of the Peabody Museum of Archaeology and Ethnology, Harvard University, Cambridge, MA, that meet the definitions of sacred objects and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1889, one cultural item was removed from the White Earth Indian Reservation in northwest Minnesota. Dr. Walter James Hoffman acquired the item, a birchbark scroll, when studying the Midewiwin on behalf of the Bureau of American Ethnology. In 1891, the Bureau of American Ethnology donated the scroll to the United States National Museum, known today as the National Museum of Natural History. The Peabody Museum of Archaeology and Ethnology received the birchbark scroll in 1906, as part of an exchange with the National Museum of Natural History. The scroll measures 36 x 11 cm. and is inscribed with eight separate figures. Museum documentation describes it as a “Record of a song used in gathering of remedies.” The birchbark scroll has been identified as both a sacred object and an object of cultural patrimony.

In the early 1900s, one cultural item was removed from the White Earth Indian Reservation in northwest Minnesota by Albert G. Heath, a collector and dealer of Native American objects in the early half of the 1900s. In March of 1952, the Denver Art Museum received the item, a birchbark scroll, as an anonymous donation through Julius Carlebach, a prominent New York art dealer. The Peabody Museum of Archaeology and Ethnology received the scroll in March of 1953, as part of an exchange with the Denver Art Museum. The birchbark scroll measures 134 x 31 cm. and is made up of three separate panels that have been hand-stitched together with fiber twine. Each panel is inscribed with a detailed scene. Museum documentation describes the birchbark scroll as “used as a memory device in rites of the Midewiwin Society.” The birchbark scroll has been identified as both a sacred object and an object of cultural patrimony.

Museum documentation and information obtained through consultation with representatives from the Minnesota Chippewa Tribe, Minnesota (White Earth Band), indicate these two cultural items are Ojibwe and are from the White Earth Indian Reservation, Minnesota. Historical and ethnographic data indicate that birchbark scrolls are part of the ritual items of the Midewiwin religion. Consultation evidence specifies the physical presence of the scrolls at Midewiwin ceremonies, as well as their importance to Mide practitioners in the dissemination of cosmological information and ceremonial practices. These two items meet the definition of sacred objects because they are specific ceremonial objects required by the Minnesota Chippewa Tribe, Minnesota (White Earth Band), to properly perform Midewiwin ceremonies.

Historical and ethnographic data demonstrate that these two cultural items also have ongoing historical, traditional, and cultural importance central to the Minnesota Chippewa Tribe, Minnesota (White Earth Band). Consultation evidence indicates that birchbark scrolls are not owned or alienable by an individual; rather, individuals serve as caretakers for the scrolls. These caretakers serve as custodians of the community knowledge, collective legacy, and heritage contained within the birchbark scrolls. These two cultural items meet the definition of objects of cultural patrimony because they have ongoing historical, traditional, and cultural importance central to the Minnesota Chippewa Tribe, Minnesota (White Earth Band) for the proper performance of Midewin ceremonies, and could not have been alienated or conveyed by an individual.

Determinations Made by the Peabody Museum of Archaeology and Ethnology, Harvard University

Officials of the Peabody Museum of Archaeology and Ethnology, Harvard University have determined that:

• Pursuant to 25 U.S.C. 3001(3)(C), the two cultural items described above are specific ceremonial objects needed by traditional Native American religious leaders for the practice of traditional Native American religions by their present-day adherents.

• Pursuant to 25 U.S.C. 3001(3)(D), the two cultural items described above have ongoing historical, traditional, or cultural importance central to the Native American group or culture itself, rather than property owned by an individual.

• Pursuant to 25 U.S.C. 3001(2), there is a relationship of shared group identity that can be reasonably traced between the sacred objects and objects of cultural patrimony and the Minnesota Chippewa Tribe, Minnesota (White Earth Band).

Additional Requestors and Disposition

Lineal descendants or representatives of any Indian Tribe or Native Hawaiian organization not identified in this notice that wish to claim these cultural items should submit a written request with information in support of the claim to Patricia Capone, Peabody Museum of Archaeology and Ethnology, Harvard University, 11 Divinity Avenue, Cambridge, MA 02138, telephone (617) 496-3702, email pcapone@fas.harvard.edu, by October 20, 2021. After that date, if no additional claimants have come forward, transfer of control of the sacred objects and objects of cultural patrimony to the Minnesota Chippewa Tribe, Minnesota (White Earth Band) may proceed.

The Peabody Museum of Archaeology and Ethnology, Harvard University is responsible for notifying the Minnesota Chippewa Tribe, Minnesota (White Earth Band) that this notice has been published.

Dated: September 7, 2021.
Melanie O'Brien,
Manager, National NAGPRA Program.

[FR Doc. 2021-20262 Filed 9-17-21; 8:45 am]

BILLING CODE 4312-52-P